DEPARTMENT OF TRANSPORTATION

Federal Motor Carrier Safety Administration

[Docket No. FMCSA-2014-0133]

Agency Information Collection Activities; New Information Collection: State Commercial Driver's License Program Plan

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The FMCSA requests approval of a new ICR titled, “State Commercial Driver's License Program Plan.” as a result of requirements from Section 32305 of the Moving Ahead for Progress in the 21st Century Act (MAP-21), Public Law 112-141, dated July 6, 2012. The Act requires States to submit a plan to the Secretary describing the actions the State will take to address any deficiencies in the State's commercial driver's license (CDL) program, as identified by the Secretary in the most recent audit of the program. This ICR is needed to ensure that the States are complying with notification and recordkeeping requirements for information related to testing, licensing, violations, convictions and disqualifications and that the information is accurate, complete and transmitted and recorded within certain time periods as required by the Commercial Motor Vehicle Safety Act of 1986 (CMVSA), as amended.

DATES: We must receive your comments on or before January 12, 2015.

ADDRESSES: You may submit comments identified by Federal Docket Management System (FDMS) Docket Number FMCSA-2014-0133 using any of the following methods:

• Federal eRulemaking Portal: http://www.regulations.gov. Follow the online instructions for submitting comments.

• Fax: 1-202-493-2251.

• Mail: Docket Services; U.S. Department of Transportation, 1200 New Jersey Avenue SE., West Building, Ground Floor, Room W12-140, Washington, DC 20590-0001.

• Hand Delivery or Courier: West Building, Ground Floor, Room W12-140, 1200 New Jersey Avenue SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Michael Gordon, Office of State Programs, Commercial Driver's License Division (MC-ESL),, Federal Motor Carrier Safety Administration, West Building 6th Floor, 1200 New Jersey Avenue SE., Washington, DC 20590. Telephone: 304-549-2651; email michael.gordon2@dot.gov.

SUPPLEMENTARY INFORMATION:

Background: The FMCSA is responsible for compliance and oversight of State Drivers Licensing Agencies (SDLAs). SDLAs are required to comply with the requirements of 49 CFR Part 384, titled “State Compliance with Commercial Driver's License Program.” Section 32305 of MAP-21 amends 49 U. S.C. 31311 by adding paragraph (d) State Commercial Driver's License Program Plan requirements. In paragraph (d)(1), a State shall submit a plan to the Secretary of Transportation for complying with the requirements under this section during the period beginning on the date the plan is submitted and ending on September 30, 2016. In paragraph (d)(2), a plan submitted by a State under paragraph (d)(1) shall identify—(A) the actions that the State will take to address any deficiencies in the State's Commercial Driver's License Program, as identified by the Secretary in the most recent audit of the program; and (B) other actions that the State will take to comply with the requirements under subsection (a). Paragraph (d)(3) establishes the following: “(A) Implementation Schedule—A plan submitted by a State under paragraph (d)(1) shall include a schedule for the implementation of the actions identified under paragraph (d)(2). In establishing the schedule, the State shall prioritize actions to address any deficiencies highlighted by the Secretary as critical in the most recent audit of the program. (B) Deadline for Compliance with the requirements.—A plan submitted by a State under paragraph (1) shall include assurances that the State will take the necessary actions to comply with the requirements of subsection (a) not later than September 30, 2015.

This collection of information supports the DOT strategic goal of safety by requiring the States to assure that drivers of CMVs are properly licensed according to all applicable Federal requirements

States will be required to complete a Commercial Driver's License Program Plan using a spreadsheet or pdf document that will be provided by FMCSA to each SDLA. The plan will be completed by the State and provided to FMCSA's CDL Division via the Automated Compliance Review System (ACRS), for review and concurrence. FMCSA may reject a State's Commercial Driver's License Program Plan if it is determined to be deficient by not adequately addressing the State's deficiencies, and/or assurances. Within the plan, the State will identify any deficiencies from the most recent audit and will be required to provide detailed information to demonstrate how the State will obtain compliance with Section 32305(a) of MAP-21 by September 30, 2015 and remain in compliance through September 30, 2016. This will enable FMCSA to determine a State's level of compliance with the CDL requirements. Previous to MAP-21, there was no requirement for a SDLA to submit a Commercial Driver's License Program Plan.

The spreadsheet was developed by FMCSA. The spreadsheet will be sent to each SDLA. The SDLA will complete the spreadsheet and send directly to FMCSA via electronic transmission. FMCSA will then review each plan to assess each State's level of compliance with the CDL requirements. The spreadsheets will then be uploaded into FMCSA's Automated Compliance Review System (ACRS). Appropriate feedback will be provided from MC-ESL to each State after review.

Title: State Commercial Driver's License Program Plan.

OMB Control Number: 2126-00XX.

Type of Request: New collection.

Respondents: State Driver Licensing Agencies (SDLAs).

Estimated Number of Respondents: 51 State respondents.

Estimated Time per Response: 40 hours per SDLA.

Expiration Date: New collection.

Frequency of Response: One-time effort.

Estimated Total Annual Burden: 2,040 hours.

FMCSA estimates that each SDLA would need approximately 40 hours to complete the State Commercial Driver's License Program Plan and submit it to FMCSA. The Program Plan is completed on a one-time basis as required by section 32305 of MAP-21. There is no continuing information collection function associated with submitting this Program Plan. The Program Plan asks for information which is readily available to the filer.

For the purposes of the CDL program, the District of Columbia is considered a State. Therefore, there are 51 State responses with an estimated 40 hours per response to complete and submit the Program Plan to FMCSA.

The FMCSA estimates the SDLAs total annual burden is 2,040 hours (51 responses × 40 hours = 2,040 hours).

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: November 4, 2014.
G. Kelly Regal,
Associate Administrator for Office of Research and Information Technology and Chief Information Officer.

[FR Doc. 2014-26850 Filed 11-12-14; 8:45 am]

BILLING CODE 4910-EX-P